DEPARTMENT OF DEFENSE

Department of the Air Force

U.S. Air Force Scientific Advisory Board; Notice of Meeting

AGENCY: Department of the Air Force, U.S. Air Force Scientific Advisory Board.

ACTION: Meeting notice.

SUMMARY: Due to difficulties, beyond the control of the U.S. Air Force Scientific Advisory Board or its Designated Federal Officer, the Board was unable to file a Federal Register notice for the April 24, 2012 meeting of the U.S. Air Force Scientific Advisory Board as required by 41 CFR 102-3.150(a). Accordingly, the Advisory Committee Management Officer for the Department of Defense, pursuant to 41 CFR 102-3.150(b), waives the 15-calendar day notification requirement.

Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place 24 April 2012 at the Air Force Operational Test & Evaluation Center Headquarters Annex, 8500 Gibson Blvd. SE., Kirtland AFB, NM 87117. The meeting will be from 7:45 a.m.-12 p.m., with the sessions from 7:45 a.m.-8:15 a.m. and 11 a.m.-12 p.m. open to the public. The banquet from 7 p.m. to 8:35 p.m. on 24 April 2012 at the Hyatt Regency Albuquerque, 330 Tijeras Ave. NW., Albuquerque, NM 87102 will also be open to the public.

The purpose of this Air Force Scientific Advisory Board quarterly meeting is to provide an update on the FY12 SAB study topics to the Board as well as an outbrief from the Air Force Office of Scientific Research review and will include discussions on non-traditional intelligence, surveillance, and reconnaissance data collection and exploitation; ensuring cyber situational awareness for commanders; and extended use of Air Force Space Command space-based sensors.

In accordance with 5 U.S.C. 552b, as amended, and 41 CFR 102-3.155, The Administrative Assistant of the Air Force, in consultation with the Air Force General Counsel, has agreed that the public interest requires some sessions of the United States Air Force Scientific Advisory Board meeting be closed to the public because they will discuss information and matters covered by section 5 U.S.C. 552b(c)(1).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Matthew E. Zuber, 240-612-5503, United States Air Force Scientific Advisory Board, 1500 West Perimeter Road, Ste. #3300, Joint Base Andrews, MD 20762, matthew.zuber@pentagon.af.mil.

Bao-Anh Trinh,
Air Force Federal Register Liaison Officer.

[FR Doc. 2012-9214 Filed 4-16-12; 8:45 am]

BILLING CODE 5001-05-P